INTERNATIONAL TRADE COMMISSION

[USITC SE-13-001]

Sunshine Act Meeting

AGENCY HOLDING THE MEETING: United States International Trade Commission.

TIME AND DATE: January 15, 2013 at 11:00 a.m.

PLACE: Room 101, 500 E Street SW., Washington, DC 20436, Telephone: (202) 205-2000.

STATUS: Open to the public.

MATTERS TO BE CONSIDERED:

1. Agendas for future meetings: None.

2. Minutes

3. Ratification List

4. Vote in Inv. No. 731-TA-739 (Third Review)(Clad Steel Plate from Japan). The Commission is currently scheduled to transmit its determination and Commissioners' opinions to the Secretary of Commerce on or before January 28, 2013.

5. Outstanding action jackets: None.

In accordance with Commission policy, subject matter listed above, not disposed of at the scheduled meeting, may be carried over to the agenda of the following meeting.

By order of the Commission.
Issued: January 8, 2013.
William R. Bishop,
Supervisory Hearings and Information Officer.

[FR Doc. 2013-00418 Filed 1-8-13; 4:15 pm]

BILLING CODE 7020-02-P